DEPARTMENT OF VETERANS AFFAIRS

38 CFR Parts 17, 51 and 52

RIN 2900-AO88

Per Diem Paid to States for Care of Eligible Veterans in State Homes; Correction

AGENCY: Department of Veterans Affairs.

ACTION: Proposed rule; correction and clarification.

SUMMARY: The Department of Veterans Affairs is correcting and clarifying a proposed rule that published in the Federal Register on June 17, 2015 (80 FR 34794).

DATES: The correction and clarification are effective June 24, 2015. The comments due date remains August 17, 2015.

ADDRESSES: Written comments may be submitted through www.Regulations.gov; by mail or hand-delivery to the Director, Regulation Policy and Management (02REG), Department of Veterans Affairs, 810 Vermont Avenue NW., Room 1068, Washington, DC 20420; or by fax to (202) 273-9026. Comments should indicate that they are submitted in response to “RIN 2900-AO88—Per Diem Paid to States for Care of Eligible Veterans in State Homes.” Copies of comments received will be available for public inspection in the Office of Regulation Policy and Management, Room 1068, Department of Veterans Affairs, 810 Vermont Avenue NW., Washington, DC 20420, between the hours of 8:00 a.m. and 4:30 p.m. Monday through Friday (except holidays). Please call (202) 461-4902 for an appointment. (This is not a toll-free number.) In addition, during the comment period, comments may be viewed online through the Federal Docket Management System (FDMS) at www.Regulations.gov.

FOR FURTHER INFORMATION CONTACT: Dr. Richard Allman, Chief Consultant, Geriatrics and Extended Care Services (10P4G), Veterans Health Administration, 810 Vermont Avenue NW., Washington, DC 20420, (202) 461-6750. (This is not a toll-free number.)

SUPPLEMENTARY INFORMATION: The VA is correcting and clarifying its proposed rule on Per Diem Paid to States for Care of Eligible Veterans in State Homes that published June 17, 2015, in the Federal Register at 80 FR 34794.

Correction

On page 34809, second column, in paragraph (c)(1) of § 51.30, remove “(except increases described in the first sentence of § 51.20(d)(2) of this part)” and replace it with “(except increases described in the first sentence of this section).”

Clarification

In revising Subpart B—Obtaining Recognition and Certification for Per Diem Payments, the VA inadvertently left out instructions for § 51.41. This section is not changing and will remain in the CFR if this proposed rule is adopted.

Approved: June 19, 2015.
Michael P. Shores,
Chief Impact Analyst, Office of Regulation Policy & Management.

[FR Doc. 2015-15503 Filed 6-23-15; 8:45 am]

BILLING CODE 8320-01-P